DEPARTMENT OF ENERGY

Federal Energy Regulatory Commission

Combined Notice of Filings # 2

July 2, 2008.

Take notice that the Commission received the following electric rate filings:

Docket Numbers: ER08-580-001.

Applicants: Ontario Power Generation Energy Trading, Inc.

Description: Ontario Power Generation Energy Trading, Inc submits the updated market power analysis and conforming market-based rate tariff in compliance with the requirements of Order 697 and 697-A.

Filed Date: 06/27/2008.

Accession Number: 20080701-0052.

Comment Date: 5 p.m. Eastern Time on Friday, July 18, 2008.

Docket Numbers: ER08-723-001.

Applicants: Wisconsin Power and Light Company.

Description: Wisconsin Power and Light Co submits Second Revised Master Power Supply Agreement that complies with FERC's Order 614.

Filed Date: 06/27/2008.

Accession Number: 20080701-0032.

Comment Date: 5 p.m. Eastern Time on Friday, July 18, 2008.

Docket Numbers: ER08-746-001.

Applicants: Southwest Power Pool, Inc.

Description: Southwest Power Pool Inc submits their compliance filing providing revisions to its Open Access Transmission Tariff.

Filed Date: 06/25/2008.

Accession Number: 20080626-0035.

Comment Date: 5 p.m. Eastern Time on Wednesday, July 16, 2008.

Docket Numbers: ER08-763-001.

Applicants: Appalachian Power Company.

Description: Appalachian Power Co submits their compliance filing.

Filed Date: 06/27/2008.

Accession Number: 20080701-0050.

Comment Date: 5 p.m. Eastern Time on Friday, July 18, 2008.

Docket Numbers: ER08-770-002.

Applicants: Longview Power, LLC.

Description: Longview Power LLC submits an updated market power analysis and tariff revisions.

Filed Date: 06/27/2008.

Accession Number: 20080701-0053.

Comment Date: 5 p.m. Eastern Time on Friday, July 18, 2008.

Docket Numbers: ER08-813-001.

Applicants: Otter Tail Power Company.

Description: Otter Tail Power Co submits their report required by the Commission's 6/5/08 Order.

Filed Date: 06/27/2008.

Accession Number: 20080701-0022.

Comment Date: 5 p.m. Eastern Time on Friday, July 18, 2008.

Docket Numbers: ER08-868-001.

Applicants: Commonwealth Edison Company.

Description: Commonwealth Edison Company of Indiana, Inc submits revised Attachment H-13 of the PJM Interconnection, LLC Open Access Transmission Tariff as directed by the 6/17/08 Order etc.

Filed Date: 06/27/2008.

Accession Number: 20080701-0031.

Comment Date: 5 p.m. Eastern Time on Friday, July 18, 2008.

Docket Numbers: ER08-900-001.

Applicants: The Potomac Edison Company.

Description: The Potomac Edison Company submits revision of FERC Rate Schedule 2, Reactive Support and Voltage Control from Generation Sources Services and on 6/25/08 submit the original affidavit of John J Rostock this filing.

Filed Date: 06/24/2008; 06/25/08.

Accession Number: 20080626-0033; 20080627-0130.

Comment Date: 5 p.m. Eastern Time on Tuesday, July 15, 2008.

Docket Numbers: ER08-953-001.

Applicants: Wisconsin Electric Power Company.

Description: Wisconsin Electric Power Co submits an errata to the 5/14/08 executed revised Facilities Agreement with City of Oconomowoc.

Filed Date: 06/25/2008.

Accession Number: 20080626-0064.

Comment Date: 5 p.m. Eastern Time on Wednesday, July 16, 2008.

Docket Numbers: ER08-981-001.

Applicants: Puget Sound Energy, Inc.

Description: Puget Sound Energy, Inc submits revised FERC Electric Tariff, Fourth Revised Volume 8.

Filed Date: 06/25/2008.

Accession Number: 20080626-0061.

Comment Date: 5 p.m. Eastern Time on Wednesday, July 16, 2008.

Docket Numbers: ER08-1042-001.

Applicants: Midwest Independent Transmission System.

Description: Midwest Independent Transmission System Operator, Inc supplements its 5/30/08 filing.

Filed Date: 06/25/2008.

Accession Number: 20080626-0034.

Comment Date: 5 p.m. Eastern Time on Wednesday, July 16, 2008.

Docket Numbers: ER08-1115-000.

Applicants: Northern Virginia Electric Cooperative.

Description: Withdrawal of Application of Northern Virginia Electric Cooperative.

Filed Date: 06/26/2008.

Accession Number: 20080626-5056.

Comment Date: 5 p.m. Eastern Time on Thursday, July 17, 2008.

Docket Numbers: ER08-1121-001.

Applicants: Royal Bank of Canada.

Description: Royal Bank of Canada supplements their Application for Order Accepting Initial Rate Schedule FERC 1 etc.

Filed Date: 06/26/2008.

Accession Number: 20080630-0003.

Comment Date: 5 p.m. Eastern Time on Thursday, July 17, 2008.

Docket Numbers: ER08-1146-000.

Applicants: Midwest Independent Transmission System, American Transmission Company LLC.

Description: ATC Management, Inc and Midwest Independent Transmission System Operator, Inc submits proposed Appendix I Agreement.

Filed Date: 06/20/2008.

Accession Number: 20080624-0033.

Comment Date: 5 p.m. Eastern Time on Friday, July 11, 2008.

Docket Numbers: ER08-1161-000.

Applicants: Southwest Power Pool, Inc.

Description: Southwest Power Pool, Inc submits revisions to Attachment AD of its Open Access Transmission Tariff to modify the Tariff Administration Agreement governing its relationship with the Southwestern Power Administration.

Filed Date: 06/24/2008.

Accession Number: 20080626-0036.

Comment Date: 5 p.m. Eastern Time on Tuesday, July 15, 2008.

Docket Numbers: ER08-1162-000.

Applicants: Southwest Power Pool, Inc.

Description: Southwest Power Pool Inc submits Service Agreement for Network Integration Transmission Service with Grand River Dam Authority.

Filed Date: 06/25/2008.

Accession Number: 20080626-0037.

Comment Date: 5 p.m. Eastern Time on Wednesday, July 16, 2008.

Docket Numbers: ER08-1163-000.

Applicants: PJM Interconnection, L.L.C.

Description: PJM Interconnection, LLC submits an executed service agreement for network integration transmission service under their Open Access Transmission Tariff with American Electric Power Service Corp et al.

Filed Date: 06/25/2008.

Accession Number: 20080626-0065.

Comment Date: 5 p.m. Eastern Time on Wednesday, July 16, 2008.

Docket Numbers: ER08-1165-000.

Applicants: MidAmerican Energy Company.

Description: MidAmerican Energy Company submits Second Revised Sheet 155 et al. to FERC Gas Tariff, Second Revised Volume 8, reflecting several changes to their Open Access Transmission Tariff, Attachment C etc.

Filed Date: 06/26/2008.

Accession Number: 20080627-0009.

Comment Date: 5 p.m. Eastern Time on Thursday, July 17, 2008.

Docket Numbers: ER08-1166-000.

Applicants: Hudson Bay Energy Solutions LLC.

Description: Hudson Bay Energy Solutions, LLC submits notice of cancellation of its Market Based Rate Tariff, FERC Electric Tariff, Original Volume 1, effective 6/27/08.

Filed Date: 06/26/2008.

Accession Number: 20080627-0010.

Comment Date: 5 p.m. Eastern Time on Thursday, July 17, 2008.

Docket Numbers: ER08-1167-000.

Applicants: Kansas City Power & Light Company.

Description: Kansas City Power & Light Company submits the Revised and Restated Amendatory Agreement 1 to Municipal Participation Agreement with the City of Higginsville, MO.

Filed Date: 06/26/2008.

Accession Number: 20080627-0011.

Comment Date: 5 p.m. Eastern Time on Thursday, July 17, 2008.

Docket Numbers: ER08-1168-000.

Applicants: Munnsville Wind Farm, LLC.

Description: Munnsville Wind Farm, LLC submits a Notice of Succession to inform the Commission that as a result of a corporate name change, Munnsville has succeeded the market-based rate tariff of Airtricity Munnsville Wind Farm, LLC.

Filed Date: 06/26/2008.

Accession Number: 20080630-0007.

Comment Date: 5 p.m. Eastern Time on Thursday, July 17, 2008.

Docket Numbers: ER08-1169-000.

Applicants: Midwest Independent Transmission System Operator, Inc.

Description: Midwest Independent Transmission System Operator Inc submits proposed revisions to their Open Access Transmission and Energy Markets Tariff.

Filed Date: 06/26/2008.

Accession Number: 20080630-0024.

Comment Date: 5 p.m. Eastern Time on Thursday, July 17, 2008.

Docket Numbers: ER08-1170-000.

Applicants: PJM Interconnection, LLC.

Description: PJM Interconnection, LLC submits revisions to Section 6A.2.1 of Schedule 1 of the Amended & Restated Operating Agreement, Second Revised Sheet 10A et al. to FERC Electric Tariff, Sixth Revised Volume 1, effective 8/26/08.

Filed Date: 06/27/2008.

Accession Number: 20080630-0006.

Comment Date: 5 p.m. Eastern Time on Friday, July 18, 2008.

Docket Numbers: ER08-1171-000.

Applicants: Southwestern Electric Power Company.

Description: American Electric Power Company submits notice of Cancellation of First Revised Rate Schedule 86, to be effective 6/31/08.

Filed Date: 06/27/2008.

Accession Number: 20080630-0005.

Comment Date: 5 p.m. Eastern Time on Friday, July 18, 2008.

Docket Numbers: ER08-1173-000.

Applicants: Energy West Resources, Inc.

Description: Energy West Resources, Inc submits a notice of cancellation of its FERC Electric Tariff Volume 1, effective 6/28/08.

Filed Date: 06/27/2008.

Accession Number: 20080701-0056.

Comment Date: 5 p.m. Eastern Time on Friday, July 18, 2008.

Docket Numbers: ER08-1175-000.

Applicants: Niagara Mohawk Power Corporation.

Description: Niagara Mohawk Power submits First Revised Service Agreement 339 to FERC Electric Tariff, Original Volume 1 with Carthage Energy LLC.

Filed Date: 06/27/2008.

Accession Number: 20080701-0057.

Comment Date: 5 p.m. Eastern Time on Friday, July 18, 2008.

Docket Numbers: ER08-1176-000.

Applicants: Wisconsin Electric Power Company.

Description: Wisconsin Electric Power Company submits their proposed revised Market Rate Tariff to remove the restrictions that currently exist on their market based rate authority.

Filed Date: 06/27/2008.

Accession Number: 20080701-0058.

Comment Date: 5 p.m. Eastern Time on Friday, July 18, 2008.

Docket Numbers: ER08-1177-000.

Applicants: Midwest Independent Transmission System Operator, Inc.

Description: Midwest Independent Transmission System Operator, Inc submits proposed revisions to the Coordination Agreement with Manitoba Hydro.

Filed Date: 06/27/2008.

Accession Number: 20080701-0059.

Comment Date: 5 p.m. Eastern Time on Friday, July 18, 2008.

Docket Numbers: ER08-1178-000.

Applicants: California Independent System Operator Corporation.

Description: California Independent System Operator Corporation submits an amendment to the CAISO's Market Redesign and Technology Tariff.

Filed Date: 06/27/2008.

Accession Number: 20080701-0060.

Comment Date: 5 p.m. Eastern Time on Friday, July 18, 2008.

Docket Numbers: ER08-1179-000.

Applicants: Southwest Power Pool, Inc.

Description: Southwest Power Pool Inc submits Revised Meter Agency Service Agreement.

Filed Date: 06/27/2008.

Accession Number: 20080701-0061.

Comment Date: 5 p.m. Eastern Time on Friday, July 18, 2008.

Docket Numbers: ER08-1180-000.

Applicants: IPP Energy LLC.

Description: IPP Energy LLC submits a Notice of Cancellation of Market-Based Rate Schedule FERC 1, effective 6/30/08.

Filed Date: 06/27/2008.

Accession Number: 20080701-0062.

Comment Date: 5 p.m. Eastern Time on Friday, July 18, 2008.

Docket Numbers: ER08-1181-000.

Applicants: Southwest Power Pool, Inc.

Description: Southwest Power Pool, Inc submits an executed Service Agreement for Network Integration Transmission Service between SPP as Transmission Provider and Kansas Electric Power Cooperative, Inc.

Filed Date: 06/27/2008.

Accession Number: 20080701-0063.

Comment Date: 5 p.m. Eastern Time on Friday, July 18, 2008.

Take notice that the Commission received the following open access transmission tariff filings:

Docket Numbers: OA07-35-001; OA08-68-001.

Applicants: Cleco Power LLC.

Description: Compliance Filing of Cleco Power LLC in Response to May 28, 2008 Order under Docket Nos. OA07-35, et al.

Filed Date: 06/27/2008.

Accession Number: 20080627-5127.

Comment Date: 5 p.m. Eastern Time on Friday, July 18, 2008.

Docket Numbers: OA07-50-002.

Applicants: Alcoa Power Generating Inc.—Yadkin.

Description: Alcoa Power Generating, Inc submits Second Revised Sheet 311 et al. to FERC Electric Tariff, First Revised Volume 3 to its Open Access Transmission Tariff pursuant to the Commission's 5/27/08 Order under OA07-50.

Filed Date: 06/26/2008.

Accession Number: 20080630-0004.

Comment Date: 5 p.m. Eastern Time on Thursday, July 17, 2008.

Docket Numbers: OA08-52-002.

Applicants: New York Independent System Operator, Inc.

Description: New York Independent System Operator, Inc submits Attachment Y changes to the 6/18/08 submittal etc. under OA08-52.

Filed Date: 06/27/2008.

Accession Number: 20080701-0054.

Comment Date: 5 p.m. Eastern Time on Friday, July 18, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll-free). For TTY, call (202) 502-8659.

Kimberly D. Bose,
Secretary.

[FR Doc. E8-16199 Filed 7-14-08; 8:45 am]

BILLING CODE 6717-01-P